DEPARTMENT OF HEALTH AND HUMAN SERVICES

Food and Drug Administration

[Docket No. FDA-2020-N-0907]

Medical Device User Fee Amendments for Fiscal Years 2023 Through 2027; Public Meeting; Request for Comments

AGENCY: Food and Drug Administration, HHS.

ACTION: Notice of public meeting; request for comments; postponement.

SUMMARY: The Food and Drug Administration (FDA) is announcing that the public meeting entitled “Medical Device User Fee Amendments for Fiscal Years 2023 Through 2027; Public Meeting; Request for Comments” that appeared in the Federal Register on March 6, 2020, and was scheduled for April 7, 2020, is postponed to May 5, 2020, and will take place by webcast only.

DATES: The public meeting will take place remotely on May 5, 2020, beginning at 9 a.m. EST. Submit either electronic or written comments on the medical device user fee program and suggestions regarding the commitments FDA should propose for the next reauthorized program by June 5, 2020.

FOR FURTHER INFORMATION CONTACT: Ellen Olson, Center for Devices and Radiological Health, Food and Drug Administration, Bldg. 66, Rm. 1664, 10903 New Hampshire Ave., Silver Spring, MD 20993, 301-796-4322, ellen.olson@fda.hhs.gov or CDRH-OPEQ-StrategicInitiatives@fda.hhs.gov.

SUPPLEMENTARY INFORMATION: The public meeting entitled “Medical Device User Fee Amendments for Fiscal Years 2023 Through 2027; Public Meeting; Request for Comments” announced in the Federal Register of March 6, 2020 (85 FR 13165), and scheduled for April 7, 2020, is postponed to May 5, 2020, and will take place virtually due to extenuating circumstances. There will no longer be an in-person meeting and instead the meeting will be held by webcast only. The webcast link and connection instructions will be available on the registration web page (https://www.fda.gov/medical-devices/workshops-conferences-medical-devices/2020-medical-device-meetings-and-workshops) after April 23, 2020. Interested participants may continue to register and, if applicable, to specify whether they would like to present during a particular session or the public comment session.

Dated: March 31, 2020.
Lowell J. Schiller,
Principal Associate Commissioner for Policy.

[FR Doc. 2020-07016 Filed 4-2-20; 8:45 am]

BILLING CODE 4164-01-P